DEPARTMENT OF JUSTICE

Office of Justice Programs

[AAG/A Order No. 012-2006]

Privacy Act of 1974; System of Records

AGENCY: Department of Justice (DOJ), Office of Justice Programs (OJP).

ACTION: Modification of a system of records.

SUMMARY: This is a notice of minor modifications to a system of records originally published in the Federal Register on September 4, 2002 (67 FR 56584), entitled “Victims of International Terrorism Compensation and Assistance Program, OJP-014.” The system is being re-named as “Victims of International Terrorism Expense Reimbursement Program, OJP-014.” Minor changes are made to reflect the nature of the program as an “expense reimbursement” program and to update routine uses as necessary.

DATES: In accordance with the requirements of 5 U.S.C. 552a(e)(4) and (11), the public is given a 30-day period in which to comment. The Office of Management and Budget (OMB), which has oversight responsibility under the Act, has 40 days in which to conclude its review of the system. Therefore, please submit any comments by September 18, 2006. If no comments are received, the revised system notice will be implemented without further notice in the Federal Register.

ADDRESSES: The public, OMB, and the Congress are invited to submit any comments to Mary E. Cahill, Management and Planning Staff, Justice Management Division, Department of Justice, Washington, DC 20530 (Room 1400 National Place Building), Facsimile number 202-307-1853.

FOR FURTHER INFORMATION CONTACT: Mary E. Cahill, 202-307-1823.

In accordance with 5 U.S.C. 552a (r), the DOJ has provided a report to OMB and the Congress on the modifications to this system of records.

Dated: July 31, 2006.
Lee J. Lofthus,
Acting Assistant Attorney General, for Administration.

JUSTICE/OJP—014

System Name:

Victims of International Terrorism Expense Reimbursement Program.

Security Classification:

Unclassified.

System Location:

Original records will be kept at the Office of Justice Programs (OJP), 810 Seventh Street, NW., Washington, DC 20531. Copies of records may be kept at locations of authorized contractors. The Office for Victims of Crimes (OVC) will have access to any/all data base(s) established by an OVC contractor and the data base(s) will be maintained internally or placed on the OJP/OVC server.

Categories of Individuals Covered by the System:

Claimants seeking expense reimbursement under the program, individuals filing claims on behalf of claimants, and individuals referenced in claims or related documents.

Categories of Records in the System:

Records in the system include: Claim forms filed by or on behalf of claimants seeking expense reimbursement under the program; records from telephone contacts or inquiries; documents submitted in support of the claims; medical, personal, employment, financial, and other records obtained or generated to process claims.

Authority for Maintenance of the System:

Authority for maintaining this system exists under the Victims of Crime Act (“VOCA”), 42 U.S.C. 10601 et seq.; 10604 (Administrative provisions).

Purpose of Records Maintained in the System:

Information contained in this system may be used to determine and record eligibility of claimants under the Victims of Crime Act, as amended, and any reimbursement provided under the Act, and to track claim status. For individuals who are eligible, see 42 U.S.C. 10603c(3)(A): The term “victim” means “a person who—(i) suffered direct physical or emotional injury or death as a result of international terrorism occurring on or after December 21, 1988 with respect to which an investigation or prosecution was ongoing after April 24, 1996; and (ii) as of the date on which the international terrorism occurred, was a national of the United States or an officer or employee of the United States Government.” [42 U.S.C. 10603c(3)(A) (i) and (ii)].

Routine Uses of Records Maintained in the System, Including Categories of Users and the Purposes of Such Uses:

Records, or any information derived therefrom, may be disclosed as follows:

A. To appropriate Federal, State and local agencies to coordinate expense reimbursements paid under similar programs;

B. To Federal, State and local agencies to verify and certify eligibility for expense reimbursements;

C. In an appropriate proceeding before a court, or administrative or adjudicative body, when the Department of Justice determines that the records are arguably relevant to the proceeding; or in an appropriate proceeding before an administrative or adjudicative body when the adjudicator determines the records to be relevant to the proceeding.

D. To the National Archives and Records Administration for purposes of records management inspections conducted under the authority of 44 U.S.C. 2904 and 2906.

E. To a Member of Congress or staff acting upon the Member's behalf when the Member or staff requests the information on behalf of, and at the request of, the individual who is the subject of the record.

F. Limited information may be disclosed to relief organizations/agencies, as appropriate for acts of international terrorism.

G. To foreign compensation programs and/or foreign governments to coordinate payment of expense reimbursements and/or to ensure no duplication of payments.

H. To contractors, grantees, experts, consultants, students, and others performing or working on a contract, service, grant, cooperative agreement, or other assignment for the Federal Government, when necessary to accomplish an agency function related to this system of records.

I. Where a record, either on its face or in conjunction with other information, indicates a violation or potential violation of law—criminal, civil, or regulatory in nature—the relevant records may be referred to the appropriate Federal, State, local, foreign, or tribal, law enforcement authority or other appropriate agency charged with the responsibility of investigating or prosecuting such a violation or enforcing or implementing such law.

J. To appropriate officials and employees of a Federal agency or entity which requires information relevant to a decision concerning the hiring, appointment, or retention of an employee; the issuance, renewal, suspension, or revocation of a security clearance; the execution of a security or suitability investigation; the letting of a contract, or the issuance of a grant or benefit.

K. To the White House (the President, Vice President, their staffs, and other entities of the Executive Office of the President (EOP)) for Executive Branch coordination of activities which relate to or have an effect upon the carrying out of the constitutional, statutory, or other official or ceremonial duties of the President or Vice-President.

L. To such recipients and under such circumstances and procedures as are mandated by Federal statute or treaty.

M. To the news media and the public pursuant to 28 CFR 50.2 unless it is determined that release of the specific information in the context of a particular case would constitute an unwarranted invasion of personal privacy.

N. The Department of Justice may disclose relevant and necessary information to a former employee of the Department for purposes of: responding to an official inquiry by a Federal, State, or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System:

Storage:

Information in this system is maintained on a master index, in folders, and in an automated system.

Retrievability:

Data is retrieved by name and address of claimant, name and address of deceased or injured victim, by terrorism incident, by type of service provider/service rendered to victim, by nationality (Foreign Service National (FSN) vs. U.S. National), by social security number, by date of birth, and individual case file number.

Safeguards:

Computerized information is safeguarded and protected by computer password key and limited access. Electronic record retention is also protected by “firewalls.” Operational access to information maintained on a dedicated computer system, is controlled by levels of security provided by password keys to prevent unauthorized entry, and audit trail of accessed information. Access to manual files is limited to personnel who have a need for files to perform official duties and is safeguarded in locked file cabinets. All files are maintained in a secure building.

Retention and Disposal:

Files are retained on hard copy and on a computer database. All claim files and automated data pertaining to a claim are destroyed 10 years after the date the claim has been fully processed and/or payment made, as approved by the National Archives and Records Administration (NARA). Automated data is retained in its most current form only, however, and as information is updated, outdated information is deleted. The schedule was approved and signed by the NARA Archivist on September 30, 2004.

System Manager(S) and Address:

Terrorism and International Victim Assistance Services Division, Office for Victims of Crime, Office of Justice Programs, 810 7th Street, NW., Washington, DC 20531.

Notification Procedure:

Inquiries concerning this system should be addressed to the system manager listed above c/o FOI/PA Personnel.

Record Access Procedures:

Request for access to a record from this system shall be made in writing with the envelope and the letter clearly marked “Freedom of Information/Privacy Act Request.” The request should include a general description of the records sought and must include the requester's full name, current address, and date and place of birth. The request must be signed and either notarized or submitted under penalty of perjury.

Contesting Record Procedures:

Individuals desiring to contest or amend information maintained in the system should direct their request to the System Manager listed above, state clearly and concisely what information is being contested, the reason for contesting it, and the proposed amendment to the information sought.

Record Source Categories:

Public agencies including investigating agency, employing agency, claimants, educational institutions, physicians, hospitals, official State and Federal documents.

Exemptions Claimed For The System:

None.

[FR Doc. E6-12741 Filed 8-4-06; 8:45 am]

BILLING CODE 4410-18-P